OFFICE OF THE UNITED STATES TRADE REPRESENTATIVE

Notice of Meeting of the Trade and Environment Policy Advisory Committee (TEPAC)

AGENCY: Office of the United States Trade Representative.

ACTION: Notice that the October 11, 2001, meeting of the Trade and Environment Policy Advisory Committee will be held from 8 a.m. to 10:30 a.m. the Meeting will be closed to the public from 8 a.m. to 10 a.m. and open to the public from 10 a.m. to 10:30 a.m.

SUMMARY: The Trade and Environment Policy Advisory Committee will hold a meeting on October 11, 2001, from 8 a.m. to 10:30 a.m. The meeting will be closed to the public from 8 a.m. to 10 a.m. The meeting will include a review and discussion of current issues which influence U.S. trade policy. Pursuant to section 2155(f)(2) of Title 19 of the United States Code, I have determined that this meeting will be concerned with matters the disclosure of which would seriously compromise the development by the United States Government of trade policy, priorities, negotiating objectives or bargaining positions with respect to the operation of any trade agreement and other matters arising in connection with the development, implementation and administration of the trade policy of the United States. The meting will be open to the public and press from 10 a.m. to 10:30 a.m., when trade policy issues will be discussed. Attendance during this part of the meting is for observation only. Individuals who are not members of the committee will not be invited to comment.

DATES: The meeting is scheduled for October 11, 2001, unless otherwise notified.

ADDRESSES: The meeting will be held at the USTR ANNEX Building in Conference Rooms 1 and 2, located at 1724 F Street, NW., Washington, DC, unless otherwise notified.

FOR FURTHER INFORMATION CONTACT: Elizabeth A. Ginini, Office of the United States Trade Representative, (202) 395-6120.

Robert B. Zoellick,
United States Trade Representative.

[FR Doc. 01-24334 Filed 9-27-01; 8:45 am]

BILLING CODE 3190-01-M